DEPARTMENT OF COMMERCE

National Oceanic and Atmospheric Administration

[I.D. 121406B]

Marine Mammals; Pinniped Removal Authority

AGENCY: National Marine Fisheries Service (NMFS), National Oceanic and Atmospheric Administration (NOAA), Commerce.

ACTION: Notice; request for comments.

SUMMARY: NMFS received an application under Section 120 of the Marine Mammal Protection Act (MMPA) from the states of Oregon, Washington, and Idaho requesting authorization to intentionally take, by lethal methods, individually identifiable California sea lions (Zalophus californianus) that prey on Pacific salmon and steelhead (Onchorhynchus spp.) listed as threatened or endangered under the Endangered Species Act (ESA) in the Columbia River in Washington and Oregon. This authorization is requested as part of a larger effort to protect and recover listed salmonid stocks in the river. NMFS has determined that the application contains sufficient information to warrant convening a Pinniped-Fishery Interaction Task Force (Task Force), which will be established after the close of the public comment period. NMFS solicits public comments on the application, other information related to pinniped predation on salmonids at Bonneville Dam, and nominations for potential members of the Task Force.

DATES: Comments and information must be received by April 2, 2007.

ADDRESSES: Comments on the application should be addressed to Assistant Regional Administrator, Protected Resources Division, NMFS, 1201 NE Lloyd Blvd., Suite 1100, Portland, OR 97232. Comment may also be submitted by email to SeaLion.Predation@noaa.gov or by fax to 301-427-2527.

FOR FURTHER INFORMATION CONTACT: Garth Griffin, (503) 231-2005, or Tom Eagle, (301) 713-2322, ext. 105.

SUPPLEMENTARY INFORMATION:

Electronic Access

The states' application and background information on pinniped predation on listed salmonids, and non-lethal efforts to address the predation, are available via the Internet at the following address: http://www.nwr.noaa.gov.

Statutory Authority

Section 120 of the MMPA (16 U.S.C. 1361, et seq.) allows the Secretary of Commerce, acting through the Assistant Administrator for Fisheries (Assistant Administrator), NMFS, to authorize the intentional lethal taking of individually identifiable pinnipeds that are having a significant negative impact on the decline or recovery of salmonids that are listed as threatened or endangered under the Endangered Species Act (ESA). The authorization applies only to pinnipeds that are not listed under the ESA, or designated as a depleted or strategic stock under the MMPA. Pursuant to section 120(b) and (c), applicants may request authorization to lethally remove pinnipeds, and the Assistant Administrator is required to:

(1) Review the application to determine whether the applicant has produced sufficient evidence to warrant establishing a Pinniped-Fishery Interaction Task Force (Task Force);

(2) Establish the Task Force and publish a notice in the Federal Register requesting public comment on the application if sufficient evidence has been produced;

(3) Consider any recommendations made by the Task Force in making a determination whether to approve or deny the application; and

(4) If approved, immediately takes steps to implement the intentional lethal taking, which shall be performed by Federal or state agencies, or qualified individuals under contract to such agencies.

The Task Force is required to be comprised of the following: (1) NMFS/NOAA staff, (2) scientists who are knowledgeable about the pinniped interaction, (3) representatives of affected conservation and fishing community organizations, (4) treaty Indian tribes, (5) the states, and (6) such other organizations as NMFS deems appropriate. The Task Force reviews the application, other background information, and public comments and, as required by statute, recommends to NMFS whether to approve or deny the application. The Task Force is also required to submit with its recommendation, a description of the specific pinniped individual or individuals, the proposed location, time, and method of such taking, criteria for evaluating the success of the action, the duration of the intentional lethal taking authority, and a suggestion for non-lethal alternatives, if available and practicable, including a recommended course of action.

Background

On December 5, 2006, NMFS received an application co-signed by the Washington Department of Fish and Wildlife (WDFW), the Oregon Department of Fish and Wildlife (ODFW) and the Idaho Department of Fish and Game (IDFG) requesting authorization to intentionally take, by lethal methods, individually identifiable California sea lions in the Columbia River, which are having a significant negative impact on the recovery of threatened and endangered Pacific salmon and steelhead. According to the states' application, impacted salmon and steelhead include Lower Columbia River Chinook (threatened), Lower Columbia River steelhead (threatened), Middle Columbia River steelhead (threatened), Upper Columbia River Spring Chinook (endangered), Snake River Spring/Summer Chinook (threatened), Snake River Basin steelhead (threatened), Upper Willamette Chinook (threatened), and Upper Willamette steelhead (threatened). The states requested that NMFS establish a Pinniped-Fishery Interaction Task Force and initiate the process provided by Section 120 of the MMPA.

The states' application references studies conducted by the U.S. Army Corps of Engineers (Corps) Fisheries Field Unit that document when pinniped predation occurs in the Bonneville Dam tailrace, numbers of pinnipeds present, numbers of individual sea lions observed, numbers of salmonids consumed, and the proportion of all salmonids passing Bonneville that are taken by pinnipeds foraging in the tailrace of the dam. Information from the study, begun in 2002 and continuing through 2006, indicates that predation increased from an estimated 1,010 salmonids (0.35 percent of the salmonids passing the dam) in 2002 to an estimated 2,920 salmonids (3.44 percent of the salmonids passing the dam) in 2005. In 2006, an estimated 3,023 salmonids (2.80 percent of the total return) were consumed by sea lions immediately below the dam. Pinniped predation estimates at the dam represent a minimum lower bound on the total river-wide predation because they apply only to the area immediately below the dam (less than 0.5 miles from the structure). California sea lions, however, have been documented by WDFW/ODFW (unpublished data) feeding on salmonids immediately below Bonneville to navigation Marker 85 (approximately 6 miles downstream) and throughout the lower Columbia River.

During the spring salmon return in 2005 and 2006, the Corps, NMFS, ODFW, and WDFW tried to deter sea lions from foraging on salmon and steelhead in the dam's fish passage facilities and tailrace area. Although the Corps prevented sea lions from entering the dam's fish passage system, the agencies' collective non-lethal deterrence efforts have done little to reduce predation of salmon and steelhead in the tailrace area. While a more intensive non-lethal hazing program is planned by Oregon and Washington in 2007, the states noted they must also pursue the MMPA option for lethal removal.

The states propose to lethally remove a limited number of California sea lions above Columbia River Navigation Marker 85 (approximately river mile 139.5), annually from January 1 to June 30. Any lethal removal activity would be preceded by a period of non-lethal deterrent activity (e.g., acoustic and tactile harassment) and followed by an evaluation period. Under the proposal, this incremental process (i.e., non-lethal deterrence followed by lethal removal and an evaluation period) would be repeated as necessary. In addition to animals located above Marker 85, all individually marked California sea lions that have been documented feeding on salmonids at Bonneville Dam would be candidates for removal without restriction to time or location in the river. Lethal removals in the first year of the proposed authorization is proposed to be less than one percent of the Potential Biological Removal (PBR) level for California sea lions (current PBR level is 8,333 animals out of an estimated population of 237,000); the number proposed to be removed in subsequent years is anticipated to be lower and would likely approach zero within several years. Individual sea lions would be lethally removed by humane methods following recommendations of a Safety and Animal Care committees convened by the states.

The proposed action to address pinniped predation is part of a comprehensive fish recovery strategy. As reported in the application, significant actions to address the decline of salmon populations in the Columbia River basin have been underway for several decades and are progressing each year as a result of development and implementation of ESA conservation and recovery plans throughout the basin. These actions include harvest reductions, hydroelectric system mitigation, watershed and sub-basin planning, and hatchery reform.

The applicants state that continued use of only non-lethal methods will likely result in an expansion of the problem by allowing increasing numbers of sea lions to become recruited into the pool of nuisance animals. The expected benefit of permanent removal of the animals in question will be to reduce a recent significant source of mortality that has affected the states' ongoing efforts to recover ESA listed salmonids in the Columbia River Basin.

In considering whether the application should be approved or denied, the MMPA requires that the Task Force and NMFS consider:

(1) Population trends, feeding habits, the location of the pinniped interaction, how and when the interaction occurs, and how many individual pinnipeds are involved;

(2) Past efforts to deter such pinnipeds, and whether the applicant has demonstrated that no feasible and prudent alternatives exist and that the applicant has taken all reasonable nonlethal steps without success;

(3) The extent to which such pinnipeds are causing undue injury impact to, or imbalance with, other species in the ecosystem, including fish populations; and

(4) The extent to which such pinnipeds are exhibiting behavior that presents an ongoing threat to public safety.

The Assistant Administrator has considered the states' application and determined that it provides sufficient evidence to warrant establishing a Task Force. The application describes the means of identifying individual pinnipeds, includes a detailed description of the problem interactions between pinnipeds and listed salmonids at and below Bonneville Dam, and describes the expected benefits of potential taking of pinnipeds. The application also documents past non-lethal efforts to prevent the problem interactions.

Request for Comments and Other Information

NMFS solicits public comments on the states' application and any additional information that should be considered by the Task Force in making its recommendation, or NMFS in making its determination whether to approve or deny the application. NMFS is interested in receiving additional information related to the factors that must be considered in determining whether to approve or deny the application (see Background) and on the impact of sea lion predation at Bonneville Dam on the affected salmonid populations.

NMFS requests that comments be specific. In particular, we request information regarding:

(1) Observations of sea lions (number, species and predation on salmonids) in the Columbia River above or below Bonneville Dam;

(2) Information on areas where numbers of sea lions are concentrated in the lower Columbia River, between Tongue Point (river mile 16) and Navigation Marker 85 (river mile 135), including resting (haulout) sites and locations where sea lions have been repeatedly observed taking salmonids; and

(3) Dates when sea lions have been observed in the river above Tongue Point to Bonneville Dam.

NMFS also solicits the names and affiliations of experts from the academic and scientific community, tribes, Federal and state agencies, and the private sector for consideration as potential Task Force members. A Task Force, established under MMPA section 120 must, to the maximum extent practicable, consist of an equitable balance among representatives of resource users and non-users as outlined above. The cover letter to the states' application included a list of suggested agencies and organizations for inclusion in the Task Force (see Electronic Access). Nominations for Task Force membership must include sufficient background information (e.g., 1-page resume) on the candidate to allow us to judge their expertise and should indicate the prospective candidate's willingness to serve without compensation.

Dated: January 23, 2007.
Samuel D. Rauch III,
Deputy Assistant Administrator for Regulatory Programs, National Marine Fisheries Service.

[FR Doc. E7-1447 Filed 1-29-07; 8:45 am]

BILLING CODE 3510-22-S